INTERNATIONAL TRADE COMMISSION

[USITC SE-06-055]

Sunshine Act Meeting Notice

Agency Holding the Meeting: International Trade Commission.

Time and Date: October 31, 2006 at 11 a.m.

Place: Room 101, 500 E Street SW., Washington, DC 20436

Telephone: (202) 205-2000.

Status: Open to the public.

Matters To Be Considered: 1. Agenda for future meetings: none.

2. Minutes.

3. Ratification List.

4. Inv. Nos. 731-TA-865-867 (Review) (Stainless Steel Butt-Weld Pipe Fittings from Italy, Malaysia, and the Philippines)—briefing and vote. (The Commission is currently scheduled to transmit its determination and Commissioners' opinions to the Secretary of Commerce on or before November 14, 2006.).

5. Outstanding action jackets: None.

In accordance with Commission policy, subject matter listed above, not disposed of at the scheduled meeting, may be carried over to the agenda of the following meeting.

Issued: October 18, 2006.
By order of the Commission:
Marilyn R. Abbott,
Secretary to the Commission.

[FR Doc. 06-8843 Filed 10-19-06; 12:05 pm]

BILLING CODE 7020-02-P